DEPARTMENT OF HEALTH AND HUMAN SERVICES

National Institutes of Health

National Institute of Biomedical Imaging and Bioengineering; Notice of Public Comment Period

SUMMARY: The National Institute of Biomedical Imaging and Bioengineering (NIBIB) is developing its first 5-year strategic plan (2005-2009), and invites the public to provide input regarding NIBIB's areas of scientific emphasis, operational emphasis, and strategic priorities. The public is invited to provide comments via the NIBIB Web site.

Background

The NIBIB was authorized by Public Law 106-580, which was signed into law by President William Clinton on December 29, 2000. The establishment of NIBIB provided an identity and a research home for the development and application of new technologies and techniques for the delivery of health care in the 21st century.

The mission of the NIBIB is to improve human health by leading the development and accelerating the application of biomedical technologies. The Institute is committed to integrating the engineering and physical sciences with the life sciences to advance basic research and medical care.

To accomplish this mission, the NIBIB has developed a set of goals, strategies, and objectives designed to maximize the Institute's impact on human health. These goals, strategies, and objectives provide the framework and action plan for the Institute's direction over the next five years, and determine how NIBIB will allocate resources to support and enhance scientific research.

Request for Comments

The NIBIB wants to develop a process that considers the views of groups and individuals who are concerned about the Institute's programs. The public is invited to provide input electronically into the development of NIBIB's strategic plan for 2005-2009. Please visit the NIBIB Web site at http://www.nibib1.nih.gov/about/SP/strategicplan.htm to comment.

Comments Due Date

We are asking that electronic comments regarding the development of NIBIB's strategic plan be received by February 28, 2005. If you do not have access to a computer, the NIBIB will provide you with a copy of the material that is on the Web site. You may request this material from Ms. Colleen Guay-Broder, Office of Science Policy and Public Liaison, NIBIB, NIH, 31 Center Drive MSC 2281, Room 1C14, Bethesda, MD 20892-2281.

The NIBIB looks forward to working with the research community and the public to develop its strategic plan.

Dated: January 14, 2005.
Colleen Guay-Broder,
Director, Office of Science Policy and Public Liaison, National Institute of Biomedical Imaging and Bioengineering, National Institutes of Health.

[FR Doc. 05-1278 Filed 1-24-05; 8:45 am]

BILLING CODE 4140-01-P